ENVIRONMENTAL PROTECTION AGENCY

40 CFR Part 52

[CA249-0287; FRL-7026-6]

Revisions to the California State Implementation Plan, South Coast Air Quality Management District

AGENCY: Environmental Protection Agency (EPA).

ACTION: Proposed rule.

SUMMARY: EPA is proposing to approve revisions to the South Coast Air Quality Management District (SCAQMD) portion of the California State Implementation Plan (SIP). These revisions concern oxides of nitrogen ( NOX) emissions from mobile sources (Class 7 and 8 heavy duty vehicles, marine vessels, ocean-going marine vessel hotelling operations, truck and trailer refrigeration units), and area sources (agricultural pumps). We are proposing to approve local rules to regulate these emission sources under the Clean Air Act as amended in 1990 (CAA or the Act). We are taking comments on this proposal and plan to follow with a final action.

DATE: Any comments must arrive by October 9, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814

South Coast Air Quality Management District, 21865 E. Copley Dr., Diamond Bar, CA 91765-4182

FOR FURTHER INFORMATION CONTACT: Lily Wong, Rulemaking Office (AIR-4), U.S. Environmental Protection Agency, Region IX, (415) 744-1190.

SUPPLEMENTARY INFORMATION: Throughout this document, “we,” “us” and “our” refer to EPA.

Table of Contents

I. The State's Submittal

A. What rules did the State submit?

B. Are there other versions of these rules?

C. What is the purpose of the submitted rules?

II. EPA's Evaluation and Action

A. How is EPA evaluating the rules?

B. Do the rules meet the evaluation criteria?

C. Public comment and final action.

III. Background information

A. Why were these rules submitted?

IV. Administrative Requirements

I. The State's Submittal

A. What Rules Did the State Submit?

Table 1 lists the rules addressed by this proposal with the dates that they were adopted by SCAQMD and submitted by the California Air Resources Board (CARB).

Table 1.—Submitted Rules
Rule # | Rule title | Adopted | Submitted
1612.1 | Mobile Source Credit Generation Pilot Program | 03/16/01 | 05/08/01
1631 | Pilot Credit Generation Program for Marine Vessels | 05/11/01 | 05/31/01
1632 | Pilot Credit Generation Program for Hotelling Operations | 05/11/01 | 05/31/01
1633 | Pilot Credit Generation Program for Truck/Trailer Refrigeration Units | 05/11/01 | 05/31/01
2507 | Pilot Credit Generation Program for Agricultural Pumps | 05/11/01 | 05/31/01

On July 20, 2001, these rule submittals were found to meet the completeness criteria in 40 CFR Part 51 Appendix V, which must be met before formal EPA review.

B. Are There Other Versions of These Rules?

There are no previous versions of Rules 1612.1, 1631, 1632, 1633 or 2507 in the SIP.

C. What Is the Purpose of the Submitted Rules?

SCAQMD's Regional Clean Air Incentive Market (RECLAIM) program (Regulation XX) establishes declining emission limits for medium and large stationary sources of NOX in and around Los Angeles. RECLAIM sources can comply with the declining limits by reducing their emissions directly or by obtaining surplus emission reduction credits from other RECLAIM sources. The RECLAIM program at Rule 2008 also allows the use of mobile source emission reduction credits (MSERCs) by RECLAIM stationary sources. Rules 1612.1, 1631, 1632, 1633 and 2507 establish requirements for any person who voluntarily elects to generate NOX MSERCs and NOX area source credits (ASCs) for use in RECLAIM through the activities described below. The mobile and area sources subject to these rules must operate exclusively within the SCAQMD.

Rule 1612.1 applies to the replacement of diesel-fueled heavy-duty Class 7 or 8 vehicles (e.g. garbage trucks and delivery vehicles) or yard hostlers with “clean technologies” using compressed natural gas, liquefied natural gas, liquefied petroleum gas, electric power, or dual-fueled engines. Rule 1631 applies to the repowering of diesel-fueled marine vessel engines with cleaner diesel engines meeting specified emission standards. Applicable marine vessels include tug boats, supply boats, ferries, fishing boats and other vessels which stay within the SCAQMD area. Rule 1632 applies to the use of fuel cell technology in lieu of diesel-fueled auxiliary engines to provide electricity to ocean-going marine vessel hotelling operations. This includes operations that require electric energy when a marine vessel is docked or anchored, such as lights, ventilation, heating, and loading. Rule 1633 applies to the conversion or purchase of truck or trailer refrigeration units that are equipped with electric standby mode to use electric power instead of diesel-fueled auxiliary engines to operate the truck or trailer refrigeration unit at a distribution center. Rule 2507 applies to the replacement of an existing diesel-fueled engine used to power an agricultural pump with an electric motor. The TSDs have more information about these rules.

II. EPA's Evaluation and Action

A. How Is EPA Evaluating the Rules?

Generally, SIP rules must be enforceable (see section 110(a) of the Act), and must not relax existing requirements (see sections 110(l) and 193).

Guidance and policy documents that we used to define specific evaluation criteria include the following:

1. “Issues Relating to VOC Regulation Cutpoints, Deficiencies, and Deviations; Clarification to Appendix D of November 24, 1987 Federal Register Notice,” (Bluebook), notice of availability published in the May 25, 1988 Federal Register.

2. “Improving Air Quality with Economic Incentive Programs,” January 2001, Office of Air and Radiation, EPA-452/R-01-001. This guidance applies to discretionary economic incentive programs (EIPs) and represents the agency's interpretation of what EIPs should contain in order to meet the requirements of the CAA. Because this guidance is non-binding and does not represent final agency action, EPA is using the guidance as an initial screen to determine whether approvability issues arise.

B. Do the Rules Meet the Evaluation Criteria?

We believe these rules are consistent with the relevant policy and guidance regarding enforceability, SIP relaxations, and EIPs. Several fundamental principles that apply to EIPs are: integrity (credits are based upon emission reductions which are surplus, enforceable, quantifiable, and permanent), equity, and environmental benefit. These rules meet the surplus criteria because the activities generating the emission reductions must not be required or relied upon by any local, state, or federal regulation, by the CAA, in an attainment demonstration, reasonable further progress demonstration, or emissions inventory. These rules meet the quantifiable criteria because they include conservative emissions quantification protocols to quantify emission reductions. The protocols are based on test data, certified emission standards, or other EPA studies on emission rates. These rules meet the enforceable criteria described in the Bluebook, and because the credit generator is liable for meeting the terms of its application. These rules meet the permanent criteria because credits are only issued for credit generating activity that occurs. The general equity element of the equity principle has been addressed by an initial analysis of the RECLAIM program during its development in 1993—which included an evaluation of potential geographic shifts in emissions and potential socio-economic impacts (e.g. job shifts). In addition to this initial analysis, there are ongoing periodic analyses that look at the same issues. Consequently, EPA concluded that the general equity element has been adequately addressed. These rules meet the environmental benefit principle because emission reduction credits are discounted prior to use to provide for environmental benefit. These rules provide for the generation of emission reduction credits and do not represent a SIP relaxation. The TSDs have more information on our evaluation.

C. Public Comment and Final Action

Because EPA believes the submitted rules fulfill all relevant requirements, we are proposing to fully approve them as described in section 110(k)(3) of the Act. While the public comment period for this type of action is normally 30 days, we are responding to a request for a longer comment period. We will accept comments from the public on this proposal for the next 60 days. Unless we receive convincing new information during the comment period, we intend to publish a final approval action that will incorporate these rules into the federally enforceable SIP.

III. Background Information

A. Why Were These Rules Submitted?

NOX helps produce ground-level ozone, smog and particulate matter, which harm human health and the environment. Section 110(a) and Part D of the CAA require states to submit regulations that control NOX emissions.

IV. Administrative Requirements

Under Executive Order 12866 (58 FR 51735, October 4, 1993), this proposed action is not a “significant regulatory action” and therefore is not subject to review by the Office of Management and Budget. For this reason, this proposed action is also not subject to Executive Order 32111, “Actions Concerning Regulations That Significantly Affect Energy Supply, Distribution, or Use” (66 FR 28355, May 22, 2001). This proposed action merely approves state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This proposed rule does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements.

Authority: 42 U.S.C. 7401 et seq.

Dated: July 24, 2001.
Jane Diamond,
Acting Regional Administrator, Region IX.

[FR Doc. 01-19753 Filed 8-6-01; 8:45 am]

BILLING CODE 6560-50-P